DEPARTMENT OF THE TREASURY

Office of the Assistant Secretary (Financial Institutions); Proposed Renewal of Information Collection; Comment Request

ACTION: Notice and request for comments.

SUMMARY: The Department of the Treasury's (“Treasury”) Office of the Assistant Secretary (Financial Institutions), which administers the First Accounts Grant Program, and as part of its continuing effort to reduce paperwork and respondent burden, invites the general public and other Federal agencies to take this opportunity to comment on a continuing information collection, as required by the Paperwork Reduction Act of 1995, Public Law 104-13 (44 U.S.C. 3506(c)(2)(A)). Currently, the Office of the Assistant Secretary (Financial Institutions) within Treasury is soliciting comment concerning its renewal of a collection of information titled, “First Accounts Program Agreement for Grants.”

DATES: Written comments should be received on or before September 20, 2002 to be assured of consideration.

ADDRESSES: Direct all written comments to either Department of the Treasury, ATTN: First Accounts, Main Treasury Building, Room 5017, 15th and Pennsylvania Avenue, NW, Washington, DC 20220 (Tel.: 202/622-0741) or first.accounts@do.treas.gov.

FOR FURTHER INFORMATION CONTACT: You can request additional information from or a copy of the collection from Jean Whaley, Director, Office of the Assistant Secretary (Financial Institutions), Department of the Treasury, Main Treasury Building, 15th and Pennsylvania Avenue, NW, Washington, DC 20220 (Tel.: 202/622-0741).

SUPPLEMENTARY INFORMATION:

Title: First Accounts Program Agreement for Grants.

OMB Number: 1505-0188.

Abstract: Treasury's Office of the Assistant Secretary (Financial Institutions) is collecting information under the terms of a Grant Agreement between Treasury and awardees of First Accounts grants. The paramount goal of the First Accounts grants is to move a maximum number of “unbanked” low- and moderate-income individuals to a “banked” status with either an insured credit union or an insured depository institution. The collection of information in the Grant Agreement is fivefold. First, it requires each awardee to submit to Treasury an opinion of awardee counsel addressing such commercially standard matters as the due authorization, execution, delivery and enforceability of the Grant Agreement. Second, it requires each awardee to submit to Treasury quarterly reports addressing the awardee's financial and project performance. Third, it requires each awardee to submit to Treasury a final financial and performance report after the expiration of the grant. Fourth, it requires each awardee to submit annually to Treasury audited financial statements. Fifth, it imposes specific record keeping requirements. The purpose of the collection of information is to ensure that the Grant Agreement constitutes a legally binding obligation of each awardee and to monitor awardee compliance, performance, and financial soundness. The purpose of the record keeping requirements is to ensure both the effective and efficient use of the grant consistent with sound business practices, and the ability to audit the use of the grant consistent with the Grant Agreement.

Current Actions: Extension.

Type of Review: Extension.

Affected Public: For-profit institutions, not-for-profit institutions, and Local Governments.

Estimated Number of Respondents: 15.

Estimated Total Annual Responses: 90-105.

Frequency of Responses: This varies, depending on the specific reporting requirements, but consists of quarterly, annual and on occasion reporting requirements.

Estimated Total Annual Burden Hours: 555 hours.

Requests for Comments

Comments submitted in response to this notice will be summarized and/or included in the request for OMB approval. All comments will become a matter of public record. Comments are invited on: (a) Whether the collection of information is necessary, including whether the information has practical utility; (b) the accuracy of the estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: July 11, 2002.
Jean Whaley,
Director, Office of the Assistant Secretary (Financial Institutions).

[FR Doc. 02-18248 Filed 7-18-02; 8:45 am]

BILLING CODE 4810-25-P